SMALL BUSINESS ADMINISTRATION

[Declaration of Disaster #3555]

State of California

As a result of the President's major disaster declaration on October 27, 2003, I find that Los Angeles, San Bernardino, San Diego and Ventura Counties in the State of California constitute a disaster area due to damages caused by wildfires occurring on October 21, 2003 and continuing. Applications for loans for physical damage as a result of this disaster may be filed until the close of business on December 26, 2003 and for economic injury until the close of business on July 27, 2004 at the address listed below or other locally announced locations:

U.S. Small Business Administration, Disaster Area 4 Office, P.O. Box 13795, Sacramento, CA 95853-4795

In addition, applications for economic injury loans from small businesses located in the following contiguous counties may be filed until the specified date at the above location: Imperial, Inyo, Kern, Orange, Riverside and Santa Barbara in the State of California; La Paz and Mohave Counties in the State of Arizona; and Clark County in the State of Nevada.

The interest rates are:

| Percent
For Physical Damage:
Homeowners with credit available elsewhere | 5.125
Homeowners without credit available elsewhere | 2.562
Businesses with credit available elsewhere | 6.199
Businesses and non-profit organizations without credit available elsewhere | 3.100
Others (including non-profit organizations) with credit available elsewhere | 5.500
For Economic Injury:
Businesses and small agricultural cooperatives without credit available elsewhere | 3.100

The number assigned to this disaster for physical damage is 355505. For economic injury the number is 9X4600 for California; 9X4700 for Arizona; and 9X4800 for Nevada.

(Catalog of Federal Domestic Assistance Program Nos. 59002 and 59008)
Dated: October 28, 2003.
Herbert L. Mitchell,
Associate Administrator for Disaster Assistance.

[FR Doc. 03-27548 Filed 10-31-03; 8:45 am]

BILLING CODE 8025-01-P